FEDERAL MARITIME COMMISSION

[Docket No. 25-01]

20230930-DK-Butterfly-1, INC., Complainant v. BAL Container Line Co., Limited, Respondent. Notice of Filing of Complaint and Assignment

Served: January 8, 2025.

Notice is given that a complaint has been filed with the Federal Maritime Commission (the “Commission”) by 20230930-DK-Butterfly-1, Inc. (the “Complainant”) against BAL Container Line Co., Limited (the “Respondent”). Complainant states that the Commission has subject matter jurisdiction over the complaint pursuant to the Shipping Act of 1984, as amended, 46 U.S.C. 40101 et seq. and personal jurisdiction over Respondent as an ocean common carrier, as defined in 46 U.S.C. 40102(18).

Complainant is a corporation existing under the laws of New York with a mailing address in Union, New Jersey, that was formerly known as Bed Bath & Beyond, Inc.

Complainant identifies Respondent as a company existing under the laws of the Hong Kong Special Administrative Region of the People's Republic of China with its principal place of business located in Sheung Wan, Hong Kong.

Complainant alleges that Respondent violated 46 U.S.C. 41102(c) and 41104(a)(10), and 46 CFR 545.5. Complainant alleges these violations arose from the assessment of detention and demurrage charges during periods of time in which the charges were not just or reasonable because of circumstances outside the control of Complainant and its agents and service providers, and the acts or omissions of Respondent that led to the assessment of such charges.

An answer to the complaint must be filed with the Commission within 25 days after the date of service.

The full text of the complaint can be found in the Commission's electronic Reading Room at https://www2.fmc.gov/readingroom/proceeding/25-01/. This proceeding has been assigned to the Office of Administrative Law Judges. The initial decision of the presiding judge shall be issued by January 8, 2026, and the final decision of the Commission shall be issued by July 22, 2026.

David Eng,
Secretary.

[FR Doc. 2025-00779 Filed 1-14-25; 8:45 am]

BILLING CODE P